DEPARTMENT OF TRANSPORTATION

Office of the Secretary

Aviation Proceedings, Agreements Filed the Week Ending September 19, 2003

The following Agreements were filed with the Department of Transportation under the provisions of 49 U.S.C. Sections 412 and 414. Answers may be filed within 21 days after the filing of the application.

Docket Number: OST-2003-16202.

Date Filed: September 17, 2003.

Parties: Members of the International Air Transport Association.

Subject:

PTC23 ME-TC3 0184 dated 19 September 2003.

TC23/TC123 Middle East-TC3. Expedited Resolutions r1-r20. Intended effective date: 1 November 2003.

Docket Number: OST-2003-16204.

Date Filed: September 17, 2003.

Parties: Members of the International Air Transport Association.

Subject:

PTC23 EUR-SEA 0170 dated 12 September 2003.

PTC23/123 Europe-South East Asia. Expedited Resolutions 001a, 002bu r1-r8.

PTC23 EUR-SEA 0171 dated 12 September 2003.

PTC23/123 Europe-South East Asia. Expedited Resolution 002bx r9.

Intended effective date: 1 November 2003 and 1 January 2004.

Andrea M. Jenkins,
Program Manager, Docket Operations, Federal Register Liaison.

[FR Doc. 03-25155 Filed 10-2-03; 8:45 am]

BILLING CODE 4910-62-P